ENVIRONMENTAL PROTECTION AGENCY

[EPA-R05-SFUND-2023-0315; FRL-11033-02-Region 5]

Proposed Prospective Purchaser Agreement for the Buick City Site in Flint, Michigan; Reopening of the Comment Period

AGENCY: Environmental Protection Agency (EPA).

ACTION: Notice; request for public comment; reopening of the comment period.

SUMMARY: In the Federal Register of June 22, 2023, the Environmental Protection Agency (EPA) announced a proposed administrative settlement; this document reopens the comment period. Additionally, a public meeting will be held in Flint, Michigan prior to the closing of the reopened comment period. The EPA will announce the details of the public meeting in multiple ways, including an ad in the local newspaper.

DATES: The comment period for the noticed published on June 22, 2023, at 88 FR 40821 is re-opened. Comments must be submitted on or before September 13, 2023.

ADDRESSES: You may send comments, identified by Docket ID No. EPA-R05-SFUND-2023-0315, by any of the following methods:

• Federal eRulemaking Portal: https://www.regulations.gov/ (our preferred method). Follow the online instructions for submitting comments.

• Mail: U.S. Environmental Protection Agency, ATTN: Mark Koller, Associate Regional Counsel, Office of Regional Counsel (C-14J), 77 W. Jackson Blvd., Chicago, Illinois 60604.

• Electronic Mail: koller.mark@epa.gov.

• Handwritten notes submitted to EPA representatives at the public meeting.

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: Mark Koller, Office of Regional Counsel, Environmental Protection Agency, telephone number: (312) 353-2591; email address: koller.mark@epa.gov.

SUPPLEMENTARY INFORMATION:

I. Public Participation

A. Written Comments

Submit your comments, identified by Docket ID No. EPA-R05-SFUND-2023-0315, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

II. Background Information

The Settling Party proposes to acquire ownership of a portion of the former General Motors Corporation North American operation, at 902 E. Leith St. in Flint, Michigan. The Site is one of the 89 sites that were placed into an Environmental Response Trust (the “Trust”) as a result of the resolution of the 2009 GM bankruptcy. The Trust is administrated by Revitalizing Auto Communities Environmental Response.

Thomas Short,
Deputy Director, Superfund & Emergency Management Division Region 5.

[FR Doc. 2023-18471 Filed 8-25-23; 8:45 am]

BILLING CODE 6560-50-P